DEPARTMENT OF DEFENSE

Department of the Army, Corps of Engineers

South Atlantic Coastal Study Notice of Availability of Draft Report

AGENCY: Department of the Army, U.S. Army Corps of Engineers, DOD.

ACTION: Notice of availability.

SUMMARY: Notice is hereby given that the U.S. Army Corps of Engineers (USACE), South Atlantic Division, is issuing the South Atlantic Coastal Study (SACS) Draft Report and appendices. These documents will be available to the public for review and comment beginning on October 15, 2021. The documents will be available on the South Atlantic Division's website at: https://www.sad.usace.army.mil/SACS/.

DATES: Written comments must be submitted on or before November 8, 2021.

ADDRESSES: U.S. Army Corps of Engineers, Jacksonville District, ATTN: CESAJ-PM-W (SACS), 701 San Marco Blvd., Jacksonville, FL 32207-8175.

You may submit comments by any of the following methods:

SurveyMonkey: https://www.surveymonkey.com/r/SACS_comments.

Email: SACS@usace.army.mil.

Mail: U.S. Army Corps of Engineers, Jacksonville District, ATTN: CESAJ-PM-W (SACS), 701 San Marco Blvd., Jacksonville, FL 32207-8175.

FOR FURTHER INFORMATION CONTACT: South Atlantic Coastal Study Outreach Lead, Ms. Lisa Clark, at 904-232-2114 or by email at Lisa.M.Clark@usace.army.mil.

SUPPLEMENTARY INFORMATION: Congress authorized and funded the South Atlantic Coastal Study (SACS) in 2016, as Hurricanes Harvey, Irma, and Maria carried particular impact within the area of responsibility of the U.S. Army Corps of Engineers' (USACE) South Atlantic Division. The SACS followed on the heels of the successful completion of the North Atlantic Coast Comprehensive Study, a regional study conducted by the USACE North Atlantic Division in the wake of the devastation caused by Hurricane Sandy in 2012. The SACS is a comprehensive coastal study focused on managing coastal storm risk to populations, infrastructure, and environmental resources throughout the coastal areas of North Carolina, South Carolina, Georgia, Florida, Alabama, Mississippi, Puerto Rico, and the U.S. Virgin Islands. These areas represent approximately 65,000 miles of tidally influenced shoreline. The goals of the SACS, authorized by Section 1204 of the Water Resources Development Act of 2016 (WRDA 2016), are to (1) provide a common operating picture of coastal risk, (2) identify high-risk locations and focus current and future resources, (3) identify and assess risk reduction actions, (4) promote and support resilient coastal communities, (5) promote sustainable projects and programs, and (5) leverage supplemental actions. In addition, the study identifies activities warranting further analysis and institutional barriers to implementation. Although the study also identifies those areas warranting more detailed evaluations, the SACS is not scoped to recommend projects for Congressional authorization or develop detailed project designs. Accordingly, National Environmental Policy Act (NEPA) documentation is not included in the study scope. Full NEPA and other environmental compliance would be accomplished as appropriate as part of future detailed evaluations before any actions could be implemented. The SACS also includes products intended to provide a consistent set of tools to enhance decision-making by all stakeholders. The products include current and projected wave and water elevation data for the study area, coastal Geographic Information Systems (GIS) analyses, economic evaluations, regional sediment management and sand availability determinations, environmental and cultural resource evaluations, and actionable risk reduction strategies in areas with coastal risk. Comments are encouraged on the SACS Draft Report and Appendices; technical SACS products are posted for reference as supporting materials.

In October 2021, the USACE will host virtual public meetings to discuss the report and answer questions. For more information on the virtual public meetings, visit: https://www.sad.usace.army.mil/SACS/. As the SACS does not contain project-level environmental compliance documentation, responses to individual public comment will not be provided. However, feedback from public review will be considered in report finalization.

Larry D. Mccallister,
Director of Programs, South Atlantic Division.

[FR Doc. 2021-21911 Filed 10-6-21; 8:45 am]

BILLING CODE 3720-58-P